DEPARTMENT OF AGRICULTURE

Animal and Plant Health Inspection Service

7 CFR Part 301

[Docket No. APHIS-2012-0003]

Asian Longhorned Beetle; Quarantined Areas in Massachusetts, Ohio, and New York

AGENCY: Animal and Plant Health Inspection Service, USDA.

ACTION: Affirmation of interim rule as final rule.

SUMMARY: We are adopting as a final rule, without change, an interim rule that amended the Asian longhorned beetle regulations by adding portions of Worcester County, MA, and Clermont County, OH, to the list of quarantined areas and by removing a portion of Suffolk County, NY, from the list of quarantined areas. The interim rule was necessary to prevent the artificial spread of Asian longhorned beetle to noninfested areas of the United States and to relieve restrictions on certain areas that were no longer necessary.

DATES: Effective on September 21, 2012, we are adopting as a final rule the interim rule published at 77 FR 31720-31722 on May 30, 2012.

FOR FURTHER INFORMATION CONTACT: Ms. Claudia Ferguson, Regulatory Policy Specialist, Regulations, Permits and Manuals, PPQ, APHIS, 4700 River Road Unit 26, Riverdale, MD 20737-1236; (301) 851-2352.

SUPPLEMENTARY INFORMATION:

Background

In an interim rule ¹ effective and published on May 30, 2012, in the Federal Register (77 FR 31720-31722, Docket No. APHIS-2012-0003), we amended the Asian longhorned beetle regulations in 7 CFR part 301 by adding portions of Worcester County, MA, and Clermont County, OH, to the list of quarantined areas in § 301.51-3(c). In addition, the interim rule removed the villages of Bayshore, East Islip, and Islip Terrace in the Town of Islip, Suffolk County, NY, from the list of quarantined areas in § 301.51-3(c) based on our determination that those areas meet our criteria for release from regulation. That action relieved restrictions that were no longer necessary on the interstate movement of regulated articles from that area.

¹ To view the interim rule, go to http://www.regulations.gov/#!docketDetail;D=APHIS-2012-0003.

Comments on the interim rule were required to be received on or before July 30, 2012. We received no comments by that date. Therefore, for the reasons given in the interim rule, we are adopting the interim rule as a final rule without change.

This action also affirms the information contained in the interim rule concerning Executive Order 12866 and the Regulatory Flexibility Act, Executive Orders 12372 and 12988, and the Paperwork Reduction Act.

Further, for this action, the Office of Management and Budget has waived its review under Executive Order 12866.

List of Subjects in 7 CFR Part 301

Agricultural commodities, Plant diseases and pests, Quarantine, Reporting and recordkeeping requirements, Transportation.

PART 301—DOMESTIC QUARANTINE NOTICES

Accordingly, we are adopting as a final rule, without change, the interim rule that amended 7 CFR part 301 and that was published at 77 FR 31720-31722 on May 30, 2012.

Done in Washington, DC, this 17th day of September 2012.
Kevin Shea,
Acting Administrator, Animal and Plant Health Inspection Service.

[FR Doc. 2012-23353 Filed 9-20-12; 8:45 am]

BILLING CODE 3410-34-P